ENVIRONMENTAL PROTECTION AGENCY

40 CFR Part 52

[EPA-R06-OAR-2015-0189; FRL-9952-03-Region 6]

Promulgation of Air Quality Implementation Plans; State of Arkansas; Regional Haze and Interstate Visibility Transport Federal Implementation Plan

Correction

In rule document 2016-22508 beginning on page 66331 in the issue of Tuesday, September 27, 2016, make the following correction:

1. On page 66332, in the first column, after the DATES heading, the second line, “October 27, 2017” should read “October 27, 2016.”

[FR Doc. C1-2016-22508 Filed 10-3-16; 8:45 am]

BILLING CODE 1301-00-D